DEPARTMENT OF TRANSPORTATION

Federal Aviation Administration

14 CFR Part 39

[Docket No. FAA-2014-0571; Directorate Identifier 2014-NM-059-AD]

RIN 2120-AA64

Airworthiness Directives; The Boeing Company Airplanes

AGENCY: Federal Aviation Administration (FAA), DOT.

ACTION: Supplemental notice of proposed rulemaking (NPRM); reopening of comment period.

SUMMARY: We are revising an earlier proposed airworthiness directive (AD) for certain The Boeing Company Model 767-200, -300, and -400ER series airplanes. The NPRM proposed an inspection for plastic couplings, corrective actions if necessary, and installation of new spray shrouds. The NPRM was prompted by a report of the engine indication and crew alerting system (EICAS) display system malfunctioning during flight. This action revises the NPRM by adding, for certain airplanes, a general visual inspection of the spray shield and related investigative and corrective actions if necessary. We are proposing this supplemental NPRM (SNPRM) to prevent an uncontrolled water leak from a defective potable water system coupling, which could cause the main equipment center (MEC) line replaceable units (LRUs) to become wet, resulting in an electrical short and potential loss of several functions essential for safe flight. Since these actions impose an additional burden over that proposed in the NPRM, we are reopening the comment period to allow the public the chance to comment on these proposed changes.

DATES: We must receive comments on this SNPRM by May 31, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this NPRM, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the internet at http://www.regulations.gov by searching for and locating Docket No. FAA-2014-0571.

Examining the AD Docket

You may examine the AD docket on the Internet at http://www.regulations.gov by searching for and locating Docket No. FAA-2014-0571; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Stanley Chen, Aerospace Engineer, Cabin Safety and Environmental Systems Branch, ANM-150S, FAA, Seattle Aircraft Certification Office (ACO), 1601 Lind Avenue SW., Renton, WA 98057-3356; phone: 425-917-6585; fax: 425-917-6590; email: stanley.chen@faa.gov.

SUPPLEMENTARY INFORMATION:

Comments Invited

We invite you to send any written relevant data, views, or arguments about this proposed AD. Send your comments to an address listed under the ADDRESSES section. Include “Docket No. FAA-2014-0571; Directorate Identifier 2014-NM-059-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 by adding an AD that would apply to certain The Boeing Company Model 767-200, -300, and -400ER series airplanes. The NPRM published in the Federal Register on August 14, 2014 (79 FR 47597) (“the NPRM”). The NPRM proposed to require an inspection for plastic couplings, corrective actions if necessary, and installation of new spray shrouds.

Actions Since Previous NPRM Was Issued

Since we issued the NPRM, Boeing has issued Boeing Alert Service Bulletin 767-38A0073, Revision 2, dated August 10, 2015. Boeing Alert Service Bulletin 767-38A0073, Revision 2, dated August 10, 2015, adds, for certain airplanes, a general visual inspection of the spray shield to determine if it has two slits and is installed correctly, and related investigative and corrective actions if necessary. We added a new paragraph (h) to require this inspection and, if necessary, related investigative and corrective actions as applicable. We redesignated subsequent paragraphs accordingly.

Comments

We gave the public the opportunity to comment on the NPRM. The following presents the comments received on the NPRM and the FAA's response to each comment.

Effect of Winglets on Accomplishment of the Proposed Actions

Aviation Partners Boeing (APB) stated that the installation of winglets per supplemental type certificate ST01920SE (http://rgl.faa.gov/Regulatory_and_Guidance_Library/rgstc.nsf/0/59027f43b9a7486e86257b1d006591ee/$FILE/ST01920SE.pdf) does not affect the accomplishment of the manufacturer's service instructions. APB also expressed that it would provide supporting data to the FAA upon request.

We agree with the commenter that STC ST01920SE (http://rgl.faa.gov/Regulatory_and_Guidance_Library/rgstc.nsf/0/59027f43b9a7486e86257b1d006591ee/$FILE/ST01920SE.pdf) does not affect the accomplishment of the manufacturer's service instructions. Therefore, the installation of STC ST01920SE does not affect the ability to accomplish the actions required by this proposed AD. We have not changed this proposed AD in this regard.

Request To Include Latest Service Information

Boeing requested that we revise the NPRM to refer to Boeing Service Bulletin 767-38A0073, Revision 1, dated November 5, 2014, and to note that no more work is necessary on any airplanes on which the actions specified in Boeing Alert Service Bulletin 767-38A0073, dated November 12, 2013, have been done (the NPRM referred to Boeing Alert Service Bulletin 767-38A0073, dated November 12, 2013, as the appropriate source of service information). Boeing also stated that the revision includes some minor changes in the Work Instructions and corrects some part numbers in the Material Information section. Boeing noted that the revised service information includes the statement “no more work is necessary on any airplane(s) changed in accordance with the original issue of the service bulletin.”

We agree to include the latest revision of the service information in this proposed AD. As stated previously, Boeing Alert Service Bulletin 767-38A0073, Revision 2, dated August 10, 2015, has been issued. This proposed AD would require that all actions be completed using Boeing Alert Service Bulletin 767-38A0073, Revision 2, dated August 10, 2015. We have also added a new paragraph (k) to this proposed AD to give credit for actions done before a certain date using Boeing Alert Service Bulletin 767- 38A0073, dated November 12, 2013, and Boeing Service Bulletin 767-38A0073, Revision 1, dated November 5, 2014. We have redesignated subsequent paragraphs accordingly.

Request To Revise the Inspection and Installation Paragraph (Paragraph (g) of the NPRM)

Boeing requested that we revise the “Inspection and Installation” paragraph (paragraph (g) of the proposed AD (in the NPRM)) to delete the following sentence:

Do all applicable corrective actions within the compliance time identified in paragraph 1.E., “Compliance,” of Boeing Alert Service Bulletin 767-38A0073, dated November 12, 2013, except as required by paragraph (h) of this AD.”

Boeing claimed that the sentence is repetitive and that it adds no new information beyond what is captured in the first two sentences of paragraph (g) of the proposed AD (in the NPRM).

We do not agree to revise this proposed AD to delete the sentence as requested because the sentence is necessary to indicate the compliance time for the corrective actions. We have made no changes to this proposed AD in this regard.

Request To Revise Costs of Compliance Section by Adding Leak Test Costs

Boeing requested that we revise the Costs of Compliance section of the NPRM to account for the hours to perform the leak test on each airplane. Boeing explained that Boeing Alert Service Bulletin 767-38A0073, dated November 12, 2013, contains estimates of 3 work-hours for the leak test. Boeing reasoned that the hours to perform the leak test following any coupling replacement were not included in the cost estimate.

We agree to revise the Costs of Compliance section of this SNPRM to add the costs to perform a leak test, for the reason indicated by Boeing. We have included this cost in the “Related investigative actions” row of the on-condition costs.

Request To Revise Parts Installation Prohibition Paragraph

United Airlines (UA) requested that we revise the “Parts Installation Prohibition” paragraph (paragraph (i) of the proposed AD (in the NPRM)) to refer to part number (P/N) “CA620 series” or P/N “CA625 series,” instead of simply “P/N CA620” or “P/N CA625.” UA explained that calling out P/N CA620 or P/N CA625 comprises only a portion of the part number.

We agree to revise the “Parts Installation Prohibition” paragraph (paragraph (j) of this proposed AD, which was referred to as paragraph (i) of the proposed AD (in the NPRM)) to specify P/N “CA620 series” or P/N “CA625 series,” for the reason explained by UA. A complete part number is formatted to provide information; e.g., for “CA620XX-YYZZ,” XX identifies the size, YY identifies the material, and ZZ is a color code; this proposed AD would prohibit P/N CA620 and P/N CA625 regardless of size, material, and color.

Request To Allow Use of Airplane Maintenance Manual (AMM)

UA explained that Boeing Alert Service Bulletin 767-38A0073, dated November 12, 2013, refers to Subject 38-10-00, Potable Water System, of Chapter 38, Water/Waste, of the Boeing 767 AMM as an accepted procedure to do a potable water system leak test on any replaced coupling and repair any leak. UA stated that the leak test on “any replaced coupling” in the potable water supply lines is only a portion of the referenced procedure, yet Subject 38-10-00, Potable Water System, of Chapter 38, Water/Waste, of the Boeing 767 AMM encompasses the water system as a whole. Steps (a) through (c) of paragraph G.9 in AMM 38-10-10 apply to the fill, drain, and overflow port, whereas step (d) applies to the water lines that supply lavatory and galley water. UA interpreted this requirement as referencing the steps in the Subject 38-10-00, Potable Water System, of Chapter 38, Water/Waste, of the Boeing 767 AMM that apply to any replaced coupling for compliance purposes.

We agree to clarify. Only the steps in the AMM for a leak test that apply to any replaced coupling must be done for compliance purposes. We have made no changes to this proposed AD in this regard.

Request To Include an Alternative Leak Test or Protection

UA requested that we revise paragraph (g) of the proposed AD (in the NPRM) to add an alternative leak test, or protection of the electronics during the leak test. UA stated that Boeing Alert Service Bulletin 767-38A0073, dated November 12, 2013, specifies a potable water supply line leak test in the electronic/equipment (EE) bay after repairs, which may produce leaks into the EE. UA advised providing protection from water spray in the event of a leak, since the shrouds may not have been installed at this point. When a sleeve is installed over the O-rings, sometimes the sleeve tends to “walk” or jam unevenly over the O-rings, causing an unexpected leak.

We disagree with the commenters request to add an alternative leak test, or to require protection of the electronics during the leak test. However, we agree that operators can take optional protective measures to cover or shield their equipment against water spray during the leak test. We have added note 1 to paragraph (g) of this proposed AD for clarification. We have determined that an alternative leak test is not necessary, and no requirement for electronics protection is needed. If present after the couplings have been swapped, the leak should be detected soon after the leak test is initiated, so the potential amount of water leaked would be minimal. If the sleeve was not properly installed, it should be obvious because the coupling could not be fully closed without the secondary retention strap secured. If damage to the O-ring occurred when the sleeve was installed, the leakage would be minimal. The electronics are contained inside panels and racks, and minimal water leakage should not be a problem. Only an undetected leak for extended duration, or major leaks spraying water all over, would be problematic since the racks/panels are not waterproof.

FAA's Determination

We are proposing this SNPRM because we evaluated all the relevant information and determined the unsafe condition described previously is likely to exist or develop in other products of these same type designs. Certain changes described above expand the scope of the NPRM. As a result, we have determined that it is necessary to reopen the comment period to provide additional opportunity for the public to comment on this SNPRM.

Proposed Requirements of This SNPRM

This SNPRM would require accomplishing the actions specified in the service information described previously. For information on the procedures and compliance times, see this service information at http://www.regulations.gov by searching for and locating Docket No. FAA-2014-0571.

The phrase “related investigative actions” is used in this proposed AD. “Related investigative actions” are follow-on actions that (1) are related to the primary action, and (2) further investigate the nature of any condition found. Related investigative actions in an AD could include, for example, inspections.

The phrase “corrective actions” is used in this proposed AD. “Corrective actions” are actions that correct or address any condition found. Corrective actions in an AD could include, for example, repairs.

Related Service Information Under 1 CFR Part 51

We reviewed Boeing Alert Service Bulletin 767-38A0073, Revision 2, dated August 10, 2015. The service information describes procedures for a general visual inspection for plastic potable water couplings and applicable related investigative and corrective actions; installation of new spray shrouds; and a general visual inspection of the spray shield to determine if it has two slits, and is installed correctly, and applicable related investigative and corrective actions. This service information is reasonably available because the interested parties have access to it through their normal course of business or by the means identified in the ADDRESSES section.

Costs of Compliance

We estimate that this proposed AD affects 136 airplanes of U.S. registry.

We estimate the following costs to comply with this proposed AD:

Estimated Costs
Action | Labor cost | Parts cost | Cost per product | Cost on U.S. operators
Part 1—General visual inspection (Groups 1 through 3, 9, and 11, Configuration 1; Groups 4-8, 10, and 12-13) (136 airplanes) | Up to 3 work-hours × $85 per hour = $255 | $0 | Up to $255 | Up to $34,680.
Part 2—General visual inspection (Group 9, Configuration 1, and Group 10) (32 airplanes) | 2 work-hours × $85 per hour = $170 | 0 | $170 | $5,440.
Part 3—Install spray shrouds | 3 work-hours × $85 per hour = $255 | 330 | $585 | $79,560.
Part 4—General visual inspection (Groups 1 through 3, 9, and 11, Configuration 2) (30 airplanes) | 2 work-hours × $85 per hour = $170 | 0 | $170 | $5,100.

We estimate the following costs to do any necessary on-condition actions that would be required based on the results of the inspection. We have no way of determining the number of aircraft that might need these actions:

On-Condition Costs
Action | Labor cost | Parts cost | Cost per product
Related investigative actions | 3 work-hours × $85 per hour = $255 | $0 | $255.
Corrective actions | Up to 1 work-hour × $85 per hour = $85 | 53 | Up to $138.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2014-0571; Directorate Identifier 2014-NM-059-AD.

(a) Comments Due Date

We must receive comments by May 31, 2016.

(b) Affected ADs

None.

(c) Applicability

This AD applies to The Boeing Company Model 767-200, -300, and -400ER series airplanes, certificated in any category, as identified in Boeing Alert Service Bulletin 767-38A0073, Revision 2, dated August 10, 2015.

(d) Subject

Air Transport Association (ATA) of America Code 38, Water/Waste.

(e) Unsafe Condition

This AD was prompted by a report of the engine indication and crew alerting system (EICAS) display system malfunctioning during flight. We are issuing this AD to prevent an uncontrolled water leak from a defective potable water system coupling, which could cause the main equipment center (MEC) line replaceable units (LRUs) to become wet, resulting in an electrical short and potential loss of several functions essential for safe flight.

(f) Compliance

Comply with this AD within the compliance times specified, unless already done.

(g) Inspection of Couplings and Installation of Spray Shrouds

For Groups 1 through 3, Configuration 1 airplanes; Groups 4 through 8 airplanes; Group 9, Configuration 1 airplanes; Group 10 airplanes; Group 11, Configuration 1 airplanes; and Groups 12 and 13 airplanes; as identified in Boeing Alert Service Bulletin 767-38A0073, Revision 2, dated August 10, 2015: At the applicable times identified in paragraph 1.E., “Compliance,” of Boeing Alert Service Bulletin 767-38A0073, Revision 2, dated August 10, 2015, except as required by paragraph (i) of this AD, do a general visual inspection for plastic potable water couplings, do all applicable related investigative and corrective actions, and install new spray shrouds (including a new hose assembly, as applicable), in accordance with the Accomplishment Instructions of Boeing Alert Service Bulletin 767-38A0073, Revision 2, dated August 10, 2015. Do all applicable related investigative and corrective actions within the applicable compliance time identified in paragraph 1.E., “Compliance,” of Boeing Alert Service Bulletin 767-38A0073, Revision 2, dated August 10, 2015, except as required by paragraph (i) of this AD.

Note 1 to paragraph (g) of this AD: Operators can take optional protective measures to cover or shield their equipment against water spray when performing the Potable Water System Leakage Test, as specified in Boeing Alert Service Bulletin 767-38A0073, Revision 2, dated August 10, 2015.

(h) Inspection of Spray Shield and Corrective Actions

For Groups 1 through 3, 9, and 11, Configuration 2 airplanes; as identified in Boeing Alert Service Bulletin 767-38A0073, Revision 2, dated August 10, 2015: Within 72 months after the effective date of this AD, do a general visual inspection of the spray shield to determine if it has two slits and is installed correctly, and do all applicable related investigative and corrective actions, in accordance with the Accomplishment Instructions of Boeing Alert Service Bulletin 767-38A0073, Revision 2, dated August 10, 2015. Do all applicable related investigative and corrective actions before further flight.

(i) Exception to the Service Information

Where paragraph 1.E., “Compliance,” of Boeing Alert Service Bulletin 767-38A0073, Revision 2, dated August 10, 2015, specifies a compliance time “after the original issue date of this service bulletin,” this AD requires compliance within the specified compliance time after the effective date of this AD.

(j) Parts Installation Prohibition

As of the effective date of this AD, no person may install any plastic potable water coupling having part number (P/N) CA620 series or P/N CA625 series on any airplane.

(k) Credit for Previous Actions

For Groups 4 through 8, 10, 12, and 13 airplanes, as identified in Boeing Alert Service Bulletin 767-38A0073, Revision 2, dated August 10, 2015: This paragraph provides credit for the actions specified in paragraph (g) of this AD, if those actions were performed before the effective date of this AD using Boeing Alert Service Bulletin 767-38A0073, dated November 12, 2013; or Boeing Service Bulletin 767-38A0073, Revision 1, dated November 5, 2014; which are not incorporated by reference in this AD.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane, and the approval must specifically refer to this AD.

(4) For service information that contains steps that are labeled as Required for Compliance (RC), the provisions of paragraphs (l)(4)(i) and (l)(4)(ii) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(m) Related Information

(1) For more information about this AD, contact Stanley Chen, Aerospace Engineer, Cabin Safety and Environmental Systems Branch, ANM-150S, FAA, Seattle Aircraft Certification Office (ACO), 1601 Lind Avenue SW., Renton, WA 98057-3356; phone: 425-917-6585; fax: 425-917-6590; email: stanley.chen@faa.gov.

(2) For service information identified in this AD, Boeing Commercial Airplanes, Attention: Data & Services Management, P. O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Issued in Renton, Washington, on March 30, 2016.
Victor Wicklund,
Acting Manager, Transport Airplane Directorate, Aircraft Certification Service.

[FR Doc. 2016-08365 Filed 4-12-16; 8:45 am]

BILLING CODE 4910-13-P